DEPARTMENT OF COMMERCE

International Trade Administration

[C-557-831]

Crystalline Silicon Photovoltaic Cells, Whether or Not Assembled Into Modules, From Malaysia: Amended Preliminary Determination of Countervailing Duty Investigation

AGENCY: Enforcement and Compliance, International Trade Administration, Department of Commerce.

SUMMARY: The U.S. Department of Commerce (Commerce) is amending the preliminary affirmative countervailing duty determination on crystalline silicon photovoltaic cells, whether or not assembled into modules (solar cells), from Malaysia to correct for significant ministerial errors.

DATES: Applicable November 7, 2024.

FOR FURTHER INFORMATION CONTACT: Preston Cox or Scarlet Jaldin, AD/CVD Operations, Office VI, Enforcement and Compliance, International Trade Administration, U.S. Department of Commerce, 1401 Constitution Avenue NW, Washington, DC 20230; telephone: (202) 482-5041 or (202) 482-4275, respectively.

SUPPLEMENTARY INFORMATION:

Background

In accordance with section 703(b) of the Tariff Act of 1930, as amended (the Act), and 19 CFR 351.205(b), on October 4, 2024, Commerce published its preliminary affirmative countervailing duty determination on solar cells from Malaysia.¹ On October 8, 2024, we received timely ministerial error allegations from the American Alliance for Solar Manufacturing Trade Committee (the petitioner) and Jinko Solar Technology Sdn. Bhd. (Jinko Solar Technology) that Commerce made significant ministerial errors in the Preliminary Determination with respect to the subsidy rate calculated for Jinko Solar Technology (JST) and its affiliates Jinko Solar (Malaysia) Sdn. Bhd. and Omega Solar Sdn. Bhd. (Omega) (collectively, Jinko Solar).²

¹ See Crystalline Silicon Photovoltaic Cells, Whether or Not Assembled into Modules, from Malaysia: Preliminary Affirmative Countervailing Duty Determination and Alignment of Final Determination with Final Antidumping Duty Determination, 89 FR 80861 (October 4, 2024) (Preliminary Determination), and accompanying Preliminary Decision Memorandum.

² See Petitioner's Letter, “Ministerial Error Comments Regarding the Preliminary Determination,” dated October 8, 2024 (Petitioner's Ministerial Error Allegation); see also Jinko Solar's Letter, “Jinko Ministerial Error Allegation,” dated October 8, 2024 (Jinko Solar's Ministerial Error Allegation).

Period of Investigation

The period of investigation (POI) is January 1, 2023, through December 31, 2023.

Scope of the Investigation

The product covered by this investigation is solar cells from Malaysia. For a complete description of the scope of this investigation, see the appendix to this notice.

Analysis of Significant Ministerial Error Allegations

According to 19 CFR 351.224(e), Commerce will analyze any comments received and, if appropriate, correct any significant ministerial error by amending the preliminary determination. A ministerial error is defined in 19 CFR 351.224(f) as “an error in addition, subtraction, or other arithmetic function, clerical error resulting from inaccurate copying, duplication, or the like, and any other similar type of unintentional error which the Secretary considers ministerial.” ³ A significant ministerial error is defined as a ministerial error, the correction of which, singly or in combination with other errors, would result in: (1) a change of at least five absolute percentage points in, but not less than 25 percent of, the countervailing duty (CVD) rate calculated in the original preliminary determination; or (2) a difference between a CVD rate of zero (or de minimis) and a CVD rate greater than de minimis, or vice versa.⁴

³ See section 705(e) of the Act.

⁴ See 19 CFR 351.224(g).

Amended Preliminary Determination

Consistent with 19 CFR 351.224(e), Commerce is amending the Preliminary Determination to reflect the correction of two ministerial errors made in the calculation of the countervailable subsidy rate for Jinko Solar.⁵ First, when calculating Jinko Solar's countervailable subsidy rate, we incorrectly calculated one of Jinko Solar's denominators, used for the purposes of calculating the ad valorem subsidy rate. Commerce finds that correction of this error submitted by the petitioner results in a change that is both at least five absolute percentage points in, and not less than 25 percent of, the subsidy rate calculated for Jinko Solar in the Preliminary Determination. As such, we find that there is a significant ministerial error within the meaning of sections 705(e) of the Act, and 19 CFR 351.224(f) and (g)(1). Therefore, we are correcting for this error by amending the Preliminary Determination, consistent with 19 CFR 351.224(e), and revising the calculations with regard to Jinko Solar's subsidy rate, the all-others rate, and the adverse facts available (AFA) rate. Additionally, when calculating the countervailable subsidy rate attributable to Jinko Solar under the Exemption of Import Duties and Sales Taxes for Raw Materials, Machinery, Equipment, and Spare Parts/Accessories through Licensed Manufacturing Warehouses (LMWs) program, we inadvertently summed the benefits for both the LMW program and the Free Trade Zone (FTZ) program to calculate the raw materials LMW benefit, resulting in double-counting of the benefits from the FTZ program for raw materials imports. We find that this allegation constitutes a ministerial error within the meaning of 19 CFR 351.224(f). Although by itself, this error is not “significant” within the meaning of 19 CFR 351.224(g), because correcting for this error in combination with the error alleged by the petitioner satisfies the requirements of 19 CFR 351.224(g)(1), we are correcting for both errors by amending the Preliminary Determination, consistent with 19 CFR 351.224(e).

⁵ See Memorandum, “Countervailing Duty Investigation of Crystalline Silicon Photovoltaic Cells, Whether or Not Assembled into Modules, from Malaysia: Ministerial Error Allegations in the Preliminary Determination,” dated concurrently with, and hereby adopted by, this notice (Preliminary Ministerial Error Memorandum).

For a complete discussion of these ministerial errors, see the Preliminary Ministerial Error Memorandum.

Amended Preliminary Determination

As a result of correcting the ministerial errors described above, we determine the following amended preliminary net countervailable subsidy rates for Jinko Solar and all other producers/exporters, and the AFA subsidy rate:

Company | Subsidy rate (percent ad valorem)
Hanwha Q CELLS Malaysia Sdn. Bhd | * 14.72
Jinko Solar Technology Sdn Bhd and its cross-owned companies: Jinko Solar (Malaysia) Sdn. Bhd. and Omega Solar Sdn. Bhd | 9.92
Baojia New Energy | ** 124.78
Pax Union Resources SDN BHD | ** 124.78
SunMax Energy SDN BHD | ** 124.78
All Others | 12.32
* Rate unchanged from the Preliminary Determination.
** Rate based on AFA.

Amended Cash Deposits and Suspension of Liquidation

The collection of cash deposits and suspension of liquidation will be established according to the rates calculated in this amended preliminary determination. Because the amended rates for Jinko Solar, all-others, and non-responsive companies result in increased cash deposits, they will be effective retroactively to October 4, 2024, the date of the publication of the Preliminary Determination. Parties will be notified of this determination, in accordance with section 703(d) and (f) of the Act.

Disclosure

We intend to disclose the calculations performed to parties in this proceeding within five days after public announcement of the amended preliminary determination, in accordance with 19 CFR 351.224.

Notification to Interested Parties

This notice is issued and published pursuant to sections 703(f) and 777(i) of the Act and 19 CFR 351.224(e).

Dated: October 31, 2024.
Ryan Majerus,
Deputy Assistant Secretary for Policy and Negotiations, performing the non-exclusive functions and duties of the Assistant Secretary for Enforcement and Compliance.

Appendix

Scope of the Investigation

The merchandise covered by this investigation is crystalline silicon photovoltaic cells, and modules, laminates, and panels, consisting of crystalline silicon photovoltaic cells, whether or not partially or fully assembled into other products, including, but not limited to, modules, laminates, panels and building integrated materials.

This investigation covers crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Merchandise under consideration may be described at the time of importation as parts for final finished products that are assembled after importation, including, but not limited to, modules, laminates, panels, building-integrated modules, building-integrated panels, or other finished goods kits. Such parts that otherwise meet the definition of merchandise under consideration are included in the scope of the investigation.

Excluded from the scope of the investigation are thin film photovoltaic products produced from amorphous silicon (a-Si), cadmium telluride (CdTe), or copper indium gallium selenide (CIGS).

Also excluded from the scope of the investigation are crystalline silicon photovoltaic cells, not exceeding 10,000 mm² in surface area, that are permanently integrated into a consumer good whose function is other than power generation and that consumes the electricity generated by the integrated crystalline silicon photovoltaic cell. Where more than one cell is permanently integrated into a consumer good, the surface area for purposes of this exclusion shall be the total combined surface area of all cells that are integrated into the consumer good.

Additionally, excluded from the scope of the investigation are panels with surface area from 3,450 mm² to 33,782 mm² with one black wire and one red wire (each of type 22 AWG or 24 AWG not more than 206 mm in length when measured from panel extrusion), and not exceeding 2.9 volts, 1.1 amps, and 3.19 watts. For the purposes of this exclusion, no panel shall contain an internal battery or external computer peripheral ports.

Also excluded from the scope of the investigation are:

(1) Off grid CSPV panels in rigid form with a glass cover, with the following characteristics: (A) a total power output of 100 watts or less per panel; (B) a maximum surface area of 8,000 cm² per panel; (C) do not include a built-in inverter; (D) must include a permanently connected wire that terminates in either an 8 mm male barrel connector, or a two-port rectangular connector with two pins in square housings of different colors; (E) must include visible parallel grid collector metallic wire lines every 1-4 millimeters across each solar cell; and (F) must be in individual retail packaging (for purposes of this provision, retail packaging typically includes graphics, the product name, its description and/or features, and foam for transport); and

(2) Off grid CSPV panels without a glass cover, with the following characteristics: (A) a total power output of 100 watts or less per panel; (B) a maximum surface area of 8,000 cm² per panel; (C) do not include a built-in inverter; (D) must include visible parallel grid collector metallic wire lines every 1-4 millimeters across each solar cell; and (E) each panel is (1) permanently integrated into a consumer good; (2) encased in a laminated material without stitching, or (3) has all of the following characteristics: (i) the panel is encased in sewn fabric with visible stitching, (ii) includes a mesh zippered storage pocket, and (iii) includes a permanently attached wire that terminates in a female USB-A connector.

In addition, the following CSPV panels are excluded from the scope of the investigation: off-grid CSPV panels in rigid form with a glass cover, with each of the following physical characteristics, whether or not assembled into a fully completed off-grid hydropanel whose function is conversion of water vapor into liquid water: (A) a total power output of no more than 80 watts per panel; (B) a surface area of less than 5,000 square centimeters (cm²) per panel; (C) do not include a built-in inverter; (D) do not have a frame around the edges of the panel; (E) include a clear glass back panel; and (F) must include a permanently connected wire that terminates in a twoport rectangular connector.

Additionally excluded from the scope of this investigation are off-grid small portable crystalline silicon photovoltaic panels, with or without a glass cover, with the following characteristics: (1) a total power output of 200 watts or less per panel; (2) a maximum surface area of 16,000 cm² per panel; (3) no built-in inverter; (4) an integrated handle or a handle attached to the package for ease of carry; (5) one or more integrated kickstands for easy installation or angle adjustment; and (6) a wire of not less than 3 meters either permanently connected or attached to the package that terminates in an 8 mm diameter male barrel connector.

Also excluded from the scope of this investigation are off-grid crystalline silicon photovoltaic panels in rigid form with a glass cover, with each of the following physical characteristics, whether or not assembled into a fully completed off-grid hydropanel whose function is conversion of water vapor into liquid water: (A) a total power output of no more than 180 watts per panel at 155 degrees Celsius; (B) a surface area of less than 16,000 square centimeters (cm²) per panel; (C) include a keep-out area of approximately 1,200 cm² around the edges of the panel that does not contain solar cells; (D) do not include a built-in inverter; (E) do not have a frame around the edges of the panel; (F) include a clear glass back panel; (G) must include a permanently connected wire that terminates in a two-port rounded rectangular, sealed connector; (H) include a thermistor installed into the permanently connected wire before the twoport connector; and (I) include exposed positive and negative terminals at opposite ends of the panel, not enclosed in a junction box.

Modules, laminates, and panels produced in a third-country from cells produced in a subject country are covered by the investigation; however, modules, laminates, and panels produced in a subject country from cells produced in a third-country are not covered by the investigation.

Also excluded from the scope of this investigation are all products covered by the scope of the antidumping and countervailing duty orders on Crystalline Silicon Photovoltaic Cells, Whether or Not Assembled into Modules, from the People's Republic of China: Amended Final Determination of Sales at Less Than Fair Value, and Antidumping Duty Order, 77 FR 73018 (December 7, 2012); and Crystalline Silicon Photovoltaic Cells, Whether or Not Assembled into Modules, from the People's Republic of China: Countervailing Duty Order, 77 FR 73017 (December 7, 2012).

Merchandise covered by the investigation is currently classified in the Harmonized Tariff System of the United States (HTSUS) under subheadings 8541.42.0010 and 8541.43.0010. Imports of the subject merchandise may enter under HTSUS subheadings 8501.71.0000, 8501.72.1000, 8501.72.2000, 8501.72.3000, 8501.72.9000, 8501.80.1000, 8501.80.2000, 8501.80.3000, 8501.80.9000, 8507.20.8010, 8507.20.8031, 8507.20.8041, 8507.20.8061, and 8507.20.8091. These HTSUS subheadings are provided for convenience and customs purposes; the written description of the scope of the investigation is dispositive.

[FR Doc. 2024-25872 Filed 11-6-24; 8:45 am]

BILLING CODE 3510-DS-P